DEPARTMENT OF AGRICULTURE

Food Safety and Inspection Service

[Docket No. FSIS-2008-0013]

Better Communications, Better Public Health Outcomes: Strategies for Improved Coordination During Foodborne Outbreaks

AGENCY: Food Safety and Inspection Service, USDA.

ACTION: Notice of public meeting.

SUMMARY: This notice is announcing that the U.S. Department of Agriculture's (USDA) Food Safety and Inspection Service (FSIS), the Food and Drug Administration's (FDA) Center for Food Safety and Applied Nutrition (CFSAN), and the National Centers for Disease Control and Prevention (CDC), will co-sponsor a two-day summit that will include a public meeting on May 15, 2008, and an invitation-only simulation exercise on May 16, 2008. The purpose of the summit is to have a discussion with stakeholders on improved information sharing and coordination during multi-jurisdictional foodborne outbreak investigations.

DATES: The public meeting will be held on Thursday, May 15, 2008, 8 a.m. to 5 p.m.

ADDRESSES: The meeting will be held at the Renaissance St. Louis Grand and Suites Hotel, 800 Washington Avenue, St. Louis, MO 63101.

All documents related to the meeting will be available for public inspection in the FSIS Docket Room, 1400 Independence Avenue, SW., Room 2534 South Building, Washington, DC 20250, between 8:30 a.m. and 4:30 p.m., Monday through Friday, as soon as they become available.

FSIS will finalize an agenda on or before the meeting date and post it and the documents related to the public meeting on the FSIS Web page at: http://www.fsis.usda.gov/News/Meetings_&_Events/.

Also, when it becomes available, the official transcript of the meeting will be kept in the FSIS Docket Room at the above address and will be posted on the Agency Web site, http://www.fsis.usda.gov.

FOR FURTHER INFORMATION CONTACT: Bonnie Kissler, Phone: (404) 562-5940, FAX: (404) 562-5934, e-mail: Bonnie.Kissler@fsis.usda.gov or at the mail address: USDA, FSIS, Office of Public Health Science, 100 Alabama Street, SW., 1924 Building, Suite 3R90A, Atlanta, GA 30303.

Pre-registration for this meeting is recommended. To pre-register for the public meeting, go to http://www.fsis.usda.gov and complete the registration form. Persons requiring a sign language interpreter or other special accommodations should notify Ms. Kissler by May 8, 2008.

SUPPLEMENTARY INFORMATION:

Background

According to the CDC, foodborne infections result in approximately 76 million illnesses, 325,000 hospitalizations, and 5,000 deaths in the U.S. each year. FSIS collaborates with local, state, and federal public health agencies to investigate foodborne illness outbreaks associated with FSIS-regulated products.

Foodborne illness investigations that span multiple agencies and jurisdictions are more common today because the U.S. food supply chain has become increasingly complex due to a wider distribution of products that are produced domestically and internationally. Further, advances in epidemiologic and laboratory surveillance have enabled the identification of multi-jurisdictional foodborne outbreaks more readily. Successful investigations of these multi-jurisdictional outbreaks require not only technical competence in epidemiologic and laboratory data analysis, but also efficient information sharing and coordination among all stakeholders. Mitigation of the impact of a foodborne illness outbreak and protection of the public health depends on effective and timely communication to consumers regarding symptoms, treatment, prevention, rapid identification of contaminated food products, and removal of those products from commerce whenever possible. The response to an outbreak by public health agencies should be consistent, comprehensive, and timely in order to effectively protect the public health. Improvements in communications and coordination among local, state, and federal public health agencies and the regulated industries during these investigations are essential to achieving this goal.

Because FSIS is committed to partnering with all members of the food safety and public health communities in an effort to make these critical improvements, FSIS will hold a summit to facilitate discussion with and among stakeholders on ways to improve communication and collaboration during multi-jurisdictional foodborne illness investigations.

A public meeting will be held on May 15, 2008, and an outbreak simulation exercise will be conducted on May 16, 2008. Participation in the exercise will be by invitation only.

Topics on the agenda for the public meeting include:

—Stakeholders' perspectives on both successes and challenges to effective collaboration during multi-jurisdictional outbreaks, and

—Ongoing projects and initiatives to improve foodborne outbreak response.

Additional Public Notification

Public awareness of all segments of rulemaking and policy development is important. Consequently, in an effort to ensure that minorities, women, and persons with disabilities are aware of this notice, FSIS will announce it online through the FSIS Web page located at http://www.fsis.usda.gov/regulations/2008_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service, which provides automatic and customized access to selected food safety news and information. This service is available at http://www.fsis.usda.gov/news_and_events/email_subscription/. Options range from recalls to export information to regulations, directives, and notices. Customers can add or delete subscriptions themselves, and have the option to password protect their accounts.

Done at Washington, DC, on April 22, 2008.
Alfred V. Almanza,
Administrator.

[FR Doc. E8-9168 Filed 4-25-08; 8:45 am]

BILLING CODE 3410-DM-P